DEPARTMENT OF COMMERCE

National Oceanic and Atmospheric Administration

[I.D. 020602B]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene public meetings of the Standing and Special Reef Fish Scientific and Statistical Committee (SSC) and the Reef Fish Advisory Panel (AP).

DATES: The meetings will be held on Tuesday, February 26 through Thursday, February 28, 2002. The Council’s Reef Fish AP will convene at 9 a.m. (CST) on Tuesday, February 26, 2002, and conclude by 12 noon on Wednesday, February 27, 2002. The SSC will subsequently convene at 1:30 p.m. on Wednesday, February 27, 2002 and will conclude by 5 p.m. on Thursday, February 28, 2002.

ADDRESSES: The meetings will be held at the New Orleans Airport Hilton, 901 Airline Drive, Kenner, LA; telephone: 504-469-5000.

Council address: Gulf of Mexico Fishery Management Council, 3018 U.S. Highway 301 North, Suite 1000, Tampa, FL 33619.

FOR FURTHER INFORMATION CONTACT: Mr. Steven Atran, Population Dynamics Statistician, the Gulf of Mexico Fishery Management Council; telephone: 813-228-2815.

SUPPLEMENTARY INFORMATION: The AP and the SSC will review a draft Red Grouper Rebuilding Plan Regulatory Amendment and to provide recommendations to the Council on red grouper regulations. Red grouper were declared to be overfished and undergoing overfishing by the Acting Southeast Regional Administrator for NMFS in October 2000. The Council originally began developing a rebuilding plan as part of Draft Reef Fish Amendment 18, which addressed a number of other reef fish issues. However, due to delays in the development of Amendment 18, the Council chose to separate out the rebuilding plan and proceed with it through a separate regulatory amendment.

The red grouper regulatory amendment contains alternatives for determining the sustainable fishing parameters on which a rebuilding plan is based. These include maximum sustainable yield (MSY), the fishing mortality rate that produces MSY (FMSY), the biomass or biomass proxy that supports MSY (BMSY), the minimum stock size threshold below which a stock is considered to be overfished (MSST), the maximum fishing mortality threshold above which a stock is considered to be undergoing overfishing (MFMT), and optimum yield (OY). The regulatory amendment also contains alternatives for selecting a rebuilding strategy and rebuilding scenarios (combinations of management measures) to achieve rebuilding. In addition to the pre-constructed scenarios, the regulatory amendment contains individual alternatives to adjust the shallow-water grouper quota, implement or adjust closed seasons, implement commercial trip limits, adjust recreational bag limits, move the longline/buoy gear boundary, and change the starting date of the commercial reef fish fishing year.

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agenda can be obtained by calling 813-228-2815. This meeting is physically accessible to people with disabilities. Requests for sign language interpretation or other auxiliary aids should be directed to Anne Alford at the Council (see ADDRESSES) by February 19, 2002.

Dated: February 7, 2002.
Bruce C. Morehead,
Acting Director, Office of Sustainable Fisheries, National Marine Fisheries Service.

[FR Doc. 02-3380 Filed 2-11-02; 8:45 am]

BILLING CODE 3510-22-S